DEPARTMENT OF ENERGY

Federal Energy Regulatory Commission

[Project Nos. 2978-005, 2979-006 and 2980-007]

Traverse City Light and Power Board; Notice Denying Late Interventions

March 17, 2006.

On October 25, 2005, Traverse City Light and Power Board (Traverse City) filed applications to surrender its license for the Brown Bridge Project No. 2978 and its exemptions from licensing for the Sabin Project No. 2980 and Boardman Project No. 2979.¹ The projects are located on the Boardman River, Traverse City, Grand Traverse County, Michigan.

¹ Traverse City has proposed to surrender the projects, which would include decommissioning of the generating facilities but would not include removal of any of the dams. No construction activities are proposed and existing conditions (i.e., lake levels, etc.) would remain.

On November 9, 2005, the Commission issued a notice of application for surrender of license and exemptions, and solicited comments, protests, and motions to intervene. The notice established December 9, 2005, as the deadline for filing comments, protests, and motions to intervene. 70 FR 69754 (2005).

On February 28, 2006, Boardman River Riparian Property Owners (Boardman) filed a motion for late intervention in all three projects. On March 9, 2006, Community Hydro Partners (Community) filed a motion for late intervention in all three projects. On March 13, 2006, Traverse City filed an answer in opposition to the motions.

Boardman states that it missed the intervention deadline of December 9, 2005, because it was not informed of or aware of its rights to intervene in the proceeding until the week before filing its motion. Community states that it missed the deadline because it was not aware that Traverse City had filed a motion to surrender until February 9, 2006.

Boardman's statement that it was not aware of its rights to intervene until a week before filing its motion and Community's explanation that it did not learn of the project until February 9, 2006, do not constitute good cause. See California Independent System Operator Corp., 91 FERC ¶61,243 at 61,876 (2000) (that movants did not learn of the intervention deadline in time to submit a timely motion to intervene does not amount to good cause under 18 CFR 385.214(d)).

The motions for late intervention in these proceedings filed by Boardman and Community are denied.

Magalie R. Salas,
Secretary.

[FR Doc. E6-4236 Filed 3-23-06; 8:45 am]

BILLING CODE 6717-01-P